DEPARTMENT OF COMMERCE

International Trade Administration

Notice of Scope Rulings

AGENCY: Enforcement and Compliance, International Trade Administration, Department of Commerce.

DATES: Applicable February 9, 2022.

SUMMARY: The Department of Commerce (Commerce) hereby publishes a list of scope rulings and anti-circumvention determinations made during the period October 1, 2021-December 31, 2021. We intend to publish future lists after the close of the next calendar quarter.

FOR FURTHER INFORMATION CONTACT: Marcia E. Short, AD/CVD Operations, Customs Liaison Unit, Enforcement and Compliance, International Trade Administration, U.S. Department of Commerce, 1401 Constitution Avenue NW, Washington, DC 20230; telephone: 202-482-1560.

SUPPLEMENTARY INFORMATION:

Background

Commerce regulations provide that it will publish in the Federal Register a list of scope rulings on a quarterly basis.¹ Our most recent notification of scope rulings was published on December 8, 2021.² This current notice covers all scope rulings and anti-circumvention determinations made by Enforcement and Compliance between October 1, 2021-December 31, 2021.

¹ See 19 CFR 351.225(o).

² See Notice of Scope Rulings, 86 FR 69619 (December 8, 2021).

Scope Rulings Made October 1, 2021, Through December 31, 2021

Korea

A-580-809: Certain Circular Welded Non-Alloy Steel Pipe From Korea

Requestor: Mando America Corporation. Twenty-one base shells are not covered by the scope of the antidumping duty order on certain circular welded non-alloy steel pipe from Korea because they are mechanical tubing or are cold drawn; November 19, 2021.

Mexico

A-201-805: Certain Circular Welded Non-Alloy Steel Pipe From Mexico

Requestor: Mando America Corporation. Twenty-one base shells are not covered by the scope of the antidumping duty order on certain circular welded non-alloy steel pipe from Mexico because they are mechanical tubing or are cold drawn; November 19, 2021.

People's Republic of China (China)

A-570-909: Certain Steel Nails From China

Requestor: Roy G. Evans Co., Inc., dba EVCO. The stock keeping unit (SKU) number NP100S steel mobile home skirting spikes and the steel mobile home skirting spikes found within the SKU KNP100S mobile home skirting kit are covered by the scope of the antidumping duty order on certain steel nails from China because the physical characteristics of the products in question fell under the description listed in the scope language; November 5, 2021.

A-570-890: Wooden Bedroom Furniture From China

Requester: Jimco Lamp & Manufacturing Co. Six chests are not covered by the scope of the antidumping duty order on wooden bedroom furniture from China because they are accent furniture rather than wooden bedroom furniture; December 3, 2021.

A-570-117 and C-570-118: Wood Mouldings and Millwork Products From China

Requestor: Boise Cascade Company. Solid sawn wood planking imported by Boise Cascade is not covered by the scopes of the antidumping and countervailing duty orders on wood mouldings and millwork products from because the product is an exterior siding product which is not laminated veneer lumber (LVL) or finger-jointed; December 14, 2021.

A-570-117 and C-570-118: Wood Mouldings and Millwork Products From China

Requestor: Global Product Sourcing LLC. Exterior siding products/solid sawn wood planks are not covered by the scopes of the antidumping and countervailing duty orders on wood mouldings and millwork products from China because the products are not LVL and are not finger-jointed; December 15, 2021.

A-570-124 and C-570-125: Certain Vertical Shaft Engines Between 99cc and Up to 225cc, and Parts Thereof (Small Vertical Engines), From China

Requestor: FNA Group, Inc (FNA). FNA's dual-piston engines are not covered by the scope of the antidumping and countervailing duty orders on small vertical engines from China because the plain language of the scope only covers “single-cylinder” engines; December 27, 2021.

A-570-073 and C-570-074: Common Alloy Aluminum Sheet From China

Requestor: Valeo Group and its affiliates. The T-series aluminum sheet imported by Valeo Group and its affiliates is covered by the scope of the antidumping and countervailing duty orders on common alloy aluminum sheet from China because it is a flat aluminum product having a thickness of 6.3 mm or less, but greater than 0.2 mm, is a multi-alloy, clad aluminum sheet produced from a 3XXX-series core. Commerce found that an unregistered alloy (i.e., a proprietary alloy) is still covered by the scope of the orders if it corresponds to one of the one-digit alloy series identified in the scope language, i.e., series 1XXX, 3XXX, or 5XXX; October 15, 2021.

Anti-Circumvention Made October 1, 2021, Through December 31, 2021

Brazil

A-351-842: Certain Uncoated Paper From Brazil

Requestors: Domtar Corporation; Packaging Corporation of America; North Pacific Paper Company; Finch Paper LLC; and United Steel, Paper and Forestry, Rubber, Manufacturing, Energy, Allied Industrial and Service Workers International Union. Certain uncoated paper rolls that are commonly, but not exclusively, known as “sheeter rolls” from Brazil that are further processed in the United States into individual sheets of uncoated paper are subject to the order (i.e., paper that weighs at least 40 grams per square meter but not more than 150 grams per square meter; and that either is a white paper with a GE brightness level of 83 +/−1% or higher or is a colored paper (as defined in the scope of the order)). The uncoated paper rolls covered by the order are converted into sheets of uncoated paper using specialized cutting machinery prior to printing, and are typically, but not exclusively, between 52 and 103 inches wide and 50 inches in diameter. These uncoated paper rolls are classified under HTSUS category 4802.55; December 14, 2021.

China

A-570-943 and C-570-944: Oil Country Tubular Goods From China

Requestor: Self-initiated. Imports of welded oil country tubular goods completed in Brunei or the Philippines using inputs manufactured in China are circumventing the antidumping and countervailing duty orders on welded oil country tubular goods from China; November 26, 2021.

A-570-022 and C-570-023: Certain Uncoated Paper From China

Requestors: Domtar Corporation; Packaging Corporation of America; North Pacific Paper Company; Finch Paper LLC; and United Steel, Paper and Forestry, Rubber, Manufacturing, Energy, Allied Industrial and Service Workers International Union. Certain uncoated paper rolls that are commonly, but not exclusively, known as “sheeter rolls” from China that are further processed in the United States into individual sheets of uncoated paper are subject to the order (i.e., paper that weighs at least 40 grams per square meter but not more than 150 grams per square meter; and that either is a white paper with a GE brightness level of 83 +/−1% or higher or is a colored paper (as defined in the scope of the order)). The uncoated paper rolls covered by the order are converted into sheets of uncoated paper using specialized cutting machinery prior to printing, and are typically, but not exclusively, between 52 and 103 inches wide and 50 inches in diameter. These uncoated paper rolls are classified under HTSUS category 4802.55; December 14, 2021.

Indonesia

A-560-828 and C-560-829: Certain Uncoated Paper From Indonesia

Requestors: Domtar Corporation; Packaging Corporation of America; North Pacific Paper Company; Finch Paper LLC; and United Steel, Paper and Forestry, Rubber, Manufacturing, Energy, Allied Industrial and Service Workers International Union. Certain uncoated paper rolls that are commonly, but not exclusively, known as “sheeter rolls” from Indonesia that are further processed in the United States into individual sheets of uncoated paper are subject to the order (i.e., paper that weighs at least 40 grams per square meter but not more than 150 grams per square meter; and that either is a white paper with a GE brightness level of 83 +/−1% or higher or is a colored paper (as defined in the scope of the order)). The uncoated paper rolls covered by the order are converted into sheets of uncoated paper using specialized cutting machinery prior to printing, and are typically, but not exclusively, between 52 and 103 inches wide and 50 inches in diameter. These uncoated paper rolls are classified under HTSUS category 4802.55; December 14, 2021.

Notification to Interested Parties

Interested parties are invited to comment on the completeness of this list of completed scope inquiries and anti-circumvention determinations made during the period October 1, 2021 through December 31, 2021. Any comments should be submitted to the Deputy Assistant Secretary for AD/CVD Operations, Enforcement and Compliance, International Trade Administration, via email to CommerceCLU@trade.gov.

This notice is published in accordance with 19 CFR 351.225(o).

Dated: February 3, 2022.
James Maeder,
Deputy Assistant Secretary for Antidumping and Countervailing Duty Operations.

[FR Doc. 2022-02651 Filed 2-8-22; 8:45 am]

BILLING CODE 3510-DS-P